DEPARTMENT OF DEFENSE

Department of the Army

Availability for Non-Exclusive, Exclusive, or Partially Exclusive Licensing of U.S. Patent Concerning Infectious JEV cDNA Clones that Produce Highly Attenuated Recombinant JEV, and Vaccines Thereof

AGENCY: Department of the Army, DoD.

ACTION: Notice.

SUMMARY: In accordance with 37 CFR 404.6 and 404.7, announcement is made of the availability for licensing of U.S. Patent No. 5,736,148 entitled “Infectious JEV cDNA Clones that Produce Highly Attenuated Recombinant JEV, and Vaccines Thereof,” issued April 7, 1998. The United States Government, as represented by the Secretary of the Army, has rights in this invention.

ADDRESSES: Commander, U.S. Army Medical Research and Materiel Command, ATTN: Command Judge Advocate, MCMR-JA Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: cDNA clones containing the entire genome of Japanese encephalitis virus (JEV) were used to produce infectious, recombinant JEV particles with diverse virulence properties. Certain viruses retained the immunogenicity of JEV, but lacked the ability to cause encephalitis. The mutation associated with this loss of neurovirulence was localized to a nucleotide substitution in the codon encoding the 138th amino acid of the envelop protein, resulting in a mutation of an acidic amino acid to a basic amino acid. Attenuated viruses containing this mutation from the basis of a greatly improved, molecularly defined vaccine for the prevention of Japanese encephalitis in humans.

Luz D. Ortiz,
Army Federal Register Liaison Officer.

[FR Doc. 03-7497 Filed 3-27-03; 8:45 am]

BILLING CODE 3710-08-M